DEPARTMENT OF HOMELAND SECURITY

Bureau of Customs and Border Protection

19 CFR Part 162

RIN 1651-AA48

Publication of Administrative Forfeiture Notices

AGENCY: Bureau of Customs and Border Protection, Homeland Security.

ACTION: Proposed rule.

SUMMARY: The Customs Regulations set forth the procedure that the Bureau of Customs and Border Protection (CBP) must follow in administrative forfeiture proceedings, as required by section 607 of the Tariff Act of 1930, as amended. The statutory language allows for administrative forfeiture when CBP seizes: A prohibited importation; a transporting conveyance if used to import, export, transport or store a controlled substance or listed chemical; any monetary instrument within the meaning of 31 U.S.C. 5312(a)(3); or any conveyance, merchandise or baggage for which its value does not exceed $500,000.

If the value of the seized property exceeds $2,500, the current regulations require CBP to publish notice of seizure and intent to forfeit in a newspaper circulated at the Customs port and in the judicial district where the seizure occurred. When the value of the seized property does not exceed $2,500, CBP may publish the notice by posting it in a conspicuous place accessible to the public at the customhouse nearest the place of seizure.

This document proposes to amend the Customs Regulations by raising the threshold value of seized property for which CBP must publish a notice in a newspaper from $2,500 to $5,000. By changing the requirements for publication of administrative forfeiture notices, the proposed amendment would significantly reduce the publication costs incurred by CBP, which have often exceeded the value of seized property.

DATES: Comments must be received by March 15, 2004.

ADDRESSES: Written comments (preferably in triplicate) may be addressed to the Regulations Branch, Office of Regulations and Rulings, Bureau of Customs and Border Protection, 1300 Pennsylvania Avenue, NW., Washington, DC 20229. Comments submitted may be inspected at the Regulations Branch, Office of Regulations and Rulings, Bureau of Customs and Border Protection, 799 9th Street, NW., 5th Floor, Washington, DC. Arrangements to inspect submitted comments should be made in advance by calling Mr. Joseph Clark at (202) 572-8768.

FOR FURTHER INFORMATION CONTACT: Greg Olsavsky, Chief, Fines Penalties & Forfeitures Branch, (202) 927-3119.

SUPPLEMENTARY INFORMATION:

Background

Section 162.45 of the Customs Regulations (19 CFR 162.45) sets forth the procedure that the Bureau of Customs and Border Protection (CBP) must follow when it seizes and gives notice of intent to forfeit property under administrative forfeiture proceedings, as required by section 607 of the Tariff Act of 1930, as amended (19 U.S.C. 1607). The statutory language allows for administrative forfeiture when CBP seizes (1) a prohibited importation; (2) a transporting conveyance if used to import, export, transport or store a controlled substance or listed chemical; (3) any monetary instrument within the meaning of 31 U.S.C. 5312(a)(3); or (4) any conveyance, merchandise or baggage for which its value does not exceed $500,000.

Specifically, current § 162.45(b), Customs Regulations, addresses publication of notices under administrative forfeiture proceedings. If the value of the seized property exceeds $2,500, paragraph (b)(1) requires publication of administrative forfeiture notices in a newspaper circulated at the Customs port and in the judicial district where the seizure occurred. All known parties-in-interest are notified of the newspaper and expected dates of publication of the notice.

It is proposed to amend § 162.45(b)(1) to raise the value threshold of property for which CBP must publish an administrative forfeiture notice in a newspaper from $2,500 to $5,000.

When the value of the seized property does not exceed $2,500, current paragraph (b)(2) of § 162.45 allows CBP to publish a notice of seizure and intent to forfeit by posting it in a conspicuous place accessible to the public at the customhouse nearest the place of seizure. If the proposed amendment to paragraph (b)(1) is adopted, the applicability of paragraph (b)(2) would be automatically expanded to seizures of property valued under $5,000.

CBP last changed the regulation in 1985, when it increased the dollar threshold from $250 to $2,500. Since then, inflation has often caused the costs of publication in large metropolitan areas to exceed $2,500. Thus, in many cases the publication costs can be prohibitive when compared to the value of the property advertised.

If implemented, the proposed change to the regulations would result in estimated yearly savings of at least $147,000, based on FY 2002 expenditure levels.

Comments

Before adopting this proposed regulation as a final rule, consideration will be given to any written comments timely submitted to CBP, including comments on the clarity of this proposed rule and how it may be made easier to understand. Comments submitted will be available for public inspection in accordance with the Freedom of Information Act (5 U.S.C. 552) and § 103.11(b), Customs Regulations (19 CFR 103.11(b)), on normal business days between the hours of 9 a.m. and 4:30 p.m. at the Regulations Branch, Office of Regulations and Rulings, Bureau of Customs and Border Protection, 799 9th Street, NW., 5th Floor, Washington, DC. Arrangements to inspect submitted comments should be made in advance by calling Mr. Joseph Clark at (202) 572-8768.

Regulatory Flexibility Act and Executive Order 12866

CBP does not anticipate that the proposed amendment will have an impact on private parties, as it pertains to the agency's internal operating procedures. For that reason, it is certified that the proposed amendment, if adopted, will not have a significant economic impact on a substantial number of small entities, pursuant to the provisions of the Regulatory Flexibility Act (5 U.S.C. 601 et seq.). Accordingly, it is not subject to the regulatory analysis or other requirements of 5 U.S.C. 603 and 604.

For the same reasons, this document does not meet the criteria for a “significant regulatory action” as specified in E.O. 12866.

Drafting Information

The principal author of this document was Mr. Fernando Pena, Office of Regulations and Rulings, Customs and Border Protection. However, personnel from other Bureau offices participated in its development.

Signing Authority

This regulation is being issued in accordance with 19 CFR 0.1 (b)(1).

List of Subjects in 19 CFR Part 162

Administrative practice and procedure, Customs duties and inspection, Drug traffic control, Exports, Imports, Inspection, Law enforcement, Penalties, Prohibited merchandise, Restricted merchandise, Reporting and recordkeeping requirements, Search warrants, Seizures and forfeitures.

Proposed Amendment to the Regulations

For the reasons stated above, it is proposed to amend part 162 of the Customs Regulations (19 CFR part 162) as set forth below.

PART 162—INSPECTION, SEARCH, AND SEIZURE

1. The general authority citation for part 162 and the specific authority citation for § 162.45 continue to read as follows:

Authority: 5 U.S.C. 301; 19 U.S.C. 66, 1592, 1593a, 1624.

* * * * *

Section § 162.45 also issued under 19 U.S.C. 1607, 1608.

* * * * *

§ 162.45 [Amended]

2. It is proposed to amend the first sentence of paragraph (b)(1) of § 162.45 by removing the monetary amount “$2,500” and adding in its place “$5,000”.

Dated: January 8, 2004.
Robert C. Bonner,
Commissioner, Customs and Border Protection.

[FR Doc. 04-724 Filed 1-13-04; 8:45 am]

BILLING CODE 4820-02-P